FEDERAL COMMUNICATIONS COMMISSION

47 CFR Part 73

[DA 04-2048; MB Docket No. 04-249; RM-10998]

Radio Broadcasting Services; Benton and Yazoo City, MS

AGENCY: Federal Communications Commission.

ACTION: Proposed rule.

SUMMARY: This document requests comments on a petition for rulemaking filed by SSR Communications, Inc., licensee of Station WYAB(FM), Yazoo City, Mississippi, proposing the reallotment of Channel 226A from Yazoo City, Mississippi to Benton, Mississippi, as the community's first local transmission service, and the modification of the license for Station WYAB(FM) to reflect the changes. The coordinates for Channel 226A at Benton are 32-50-29 NL and 90-16-28 WL.

DATES: Comments must be filed on or before August 30, 2004, and reply comments on or before September 14, 2004.

ADDRESSES: Secretary, Federal Communications Commission, 445 Twelfth Street, SW., Washington, DC 20554. In addition to filing comments with the FCC, interested parties should serve the petitioner as follows: Matthew K. Wesolowski, General Manager, SSR Communications, Incorporated, 5270 West Jones Bridge Road, Norcross, Georgia 30092-1628.

FOR FURTHER INFORMATION CONTACT: Victoria McCauley, Media Bureau, (202) 418-2180.

SUPPLEMENTARY INFORMATION: This is a synopsis of the Commission's Notice of Proposed Rule Making, MB Docket No. 04-249, adopted July 7, 2004, and released July 9, 2004. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or www.BCPIWEB.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Mississippi, is amended by adding Benton, Channel 226A, and by removing Channel 226A at Yazoo City.

Federal Communications Commission.
John A. Karousos,
Assistant Chief, Audio Division, Media Bureau.

[FR Doc. 04-16608 Filed 7-20-04; 8:45 am]

BILLING CODE 6712-01-P